NATIONAL AERONAUTICS AND SPACE ADMINISTRATION

[Notice ( 05-104)]

Notice of Prospective Patent License

AGENCY: National Aeronautics and Space Administration.

ACTION: Notice of prospective patent license.

SUMMARY: NASA hereby gives notice that FARO Technologies, Inc. of Kennett Square, Pennsylvania has applied for a partially exclusive license to practice the invention described and claimed in U.S. Patent No. 5,965,879, entitled “Method and Apparatus for Ultra-High-Sensitivity, Incremental and Absolute Optical Encoding “ which is assigned to the United States of America as represented by the Administrator of the National Aeronautics and Space Administration. Written objections to the prospective grant of a license should be sent to NASA Goddard Space Flight Center. NASA has not yet made a determination to grant the requested license and may deny the requested license even if no objections are submitted within the comment period.

DATES: Responses to this notice must be received by June 23, 2005.

FOR FURTHER INFORMATION CONTACT: Christopher Kirkman, NASA Goddard Space Flight Center, Code 503, Greenbelt, MD 20771, (301) 286-0602.

Dated: May 20, 2005.
Keith T. Sefton,
Deputy General Counsel, (Admin. and Mgmt.).

[FR Doc. 05-11308 Filed 6-7-05; 8:45 am]

BILLING CODE 7510-13-P